INTERNATIONAL TRADE COMMISSION

[Investigation No. 332-427]

U.S. Market Conditions for Certain Wool Articles

AGENCY: United States International Trade Commission.

ACTION: Institution of investigation, scheduling of public hearing, and request for public comments.

EFFECTIVE DATE: February 12, 2001.

SUMMARY: Following receipt of a request from the United States Trade Representative (USTR) on January 22, 2001, the Commission instituted Investigation No. 332-427, U.S. Market Conditions for Certain Wool Articles, under section 332(g) of the Tariff Act of 1930 (19 U.S.C. 1332(g)) to monitor U.S. market conditions for certain wool articles.

FOR FURTHER INFORMATION CONTACT: For general information, contact Kim Freund (202-708-5402; freund@usitc.gov) of the Office of Industries; for information on legal aspects, contact William Gearhart (202-205-3091; wgearhart@usitc.gov) of the Office of the General Counsel. The media should contact Margaret O'Laughlin, Public Affairs Officer (202-205-1819). Hearing impaired individuals may obtain information on this matter by contacting the Commission's TDD terminal on 202-205-1810. Persons with mobility impairments who will need special assistance in gaining access to the Commission should contact the Office of the Secretary at 202-205-2000. General information about the Commission may be obtained by accessing its Internet server (http://www.usitc.gov).

Background

As requested by the USTR, the Commission will provide information on U.S. market conditions, including domestic demand, domestic supply, and domestic production for men's and boys' worsted wool suits, suit-type jackets, and trousers; worsted wool fabric and yarn used in the manufacture of such clothing; and wool fibers used in the manufacture of such fabrics and yarn. Also as requested by the USTR, the Commission will provide, to the extent possible, data on:

(1) Increases or decreases in sales and production of the subject domestically-produced worsted wool fabrics;

(2) Increases or decreases in domestic production and consumption of the subject apparel items;

(3) The ability of domestic producers of the subject worsted wool fabrics to meet the needs of domestic manufacturers of the subject apparel items in terms of quantity and ability to meet market demands for the apparel items;

(4) Sales of the subject worsted wool fabrics lost by domestic manufacturers to imports benefiting from the temporary duty reductions on certain worsted wool fabrics under the tariff-rate quotas (TRQs) provided for in headings 9902.51.11 and 9902.51.12 of the Harmonized Tariff Schedule of the United States (HTS);

(5) Loss of sales by domestic manufacturers of the subject apparel items related to the inability to purchase adequate supplies of the subject worsted wool fabrics on a cost competitive basis; and

(6) The price per square meter of imports and domestic sales of the subject worsted wool fabrics.

The USTR requested that the Commission submit two “annual reports” and an “interim letter” under this investigation. The first annual report, providing data for 1999, 2000, and year-to-date 2000-01, was requested by September 17, 2001, and the second annual report, providing data for 2001 and year-to-date 2001-02, was requested by September 16, 2002. In the interim, the USTR requested that the Commission provide by letter (interim letter) the most comprehensive information available on the factors described above for the period from January 1, 1999, to the present. The Commission was requested to submit this interim letter to USTR within 45 days after the U.S. Department of Commerce publishes a notice in the Federal Register soliciting requests from U.S. manufacturers of men's and boys' worsted wool suits, suit-type jackets, and trousers to modify the limitations on the quantity of imports of worsted wool fabrics under the TRQs provided for in HTS headings 9902.51.11 and 9902.51.12.USTR requested that the Commission issue public versions of the interim letter and the two annual reports, as soon as possible thereafter, with any business confidential information deleted.

In the request letter, the USTR referred to Title V of the Trade and Development Act of 2000 (the Act), which was enacted on May 18, 2000, and implemented by Presidential Proclamation 7383 of December 1, 2000. Title V of the Act temporarily reduces tariffs and establishes TRQs on imports of certain worsted wool fabrics. The fabrics concerned are described in HTS headings 9902.51.11 and 9902.51.12—namely, worsted wool fabrics certified by the importer as suitable for use in men's or boys' suits, suit-type jackets, and trousers. The Act authorizes the President to modify the TRQ limits provided for in HTS headings 9902.51.11 and 9902.51.12, which will be in effect for 3 years beginning on January 1, 2001, subject to his consideration of certain U.S. market conditions. In the request letter, the USTR noted that, under section 504 of the Act, the President is required to monitor U.S. market conditions, including domestic demand, domestic supply, and increases in domestic production for men's and boys' worsted wool suits, suit-type jackets, and trousers; worsted wool fabric and yarn used in the manufacture of such clothing; and wool fibers used in the manufacture of such fabrics and yarn. In Proclamation 7383, the President delegated the authority to modify the TRQ limits to the Secretary of Commerce, and delegated to USTR the authority to monitor these market conditions.

Public Hearing

A public hearing in connection with preparation of the first annual report, as identified above, will be held at the U.S. International Trade Commission Building, 500 E Street SW, Washington, DC, beginning at 9:30 a.m. on May 31, 2001. The Commission has not scheduled any other public hearing in connection with this investigation at this time. All persons shall have the right to appear, by counsel or in person, to present information and to be heard. Requests to appear at the public hearing should be filed with the Secretary, United States International Trade Commission, 500 E Street SW, Washington, DC 20436, no later than 5:15 p.m., May 17, 2001. Any prehearing briefs (original and 14 copies) should be filed not later than 5:15 p.m., May 21, 2001. The deadline for filing post-hearing briefs or statements is 5:15 p.m., June 7, 2001. In the event that, as of the close of business on May 17, 2001, no witnesses are scheduled to appear at the hearing, the hearing will be canceled. Any person interested in attending the hearing as an observer or non-participant may call the Secretary of the Commission (202-205-1806) after May 17, 2001, to determine whether the hearing will be held.

Written Submissions

In connection with preparation of the interim letter for USTR, interested parties are invited to submit written statements (original and 14 copies) concerning the matters to be addressed by the Commission. To be assured of consideration by the Commission, written statements in connection with the interim letter should be submitted to the Commission at the earliest practical date and should be received no later than the close of business on March 7, 2001. Regarding the first annual report, in lieu of or in addition to participating in the above-referenced hearing, interested parties are invited to submit written statements (original and 14 copies) concerning the matters to be addressed by the Commission by no later than the close of business on June 7, 2001.

Commercial or financial information that a person desires the Commission to treat as confidential must be submitted on separate sheets of paper, each marked “Confidential Business Information” at the top. All submissions requesting confidential treatment must conform with the requirements of section 201.6 of the Commission's Rules of Practice and Procedure (19 CFR 201.6). The Commission's Rules do not authorize filing of submissions with the Secretary by facsimile or electronic means. All written submissions, except for confidential business information, will be made available in the Office of the Secretary of the Commission for inspection by interested parties. The Commission may include confidential business information submitted in the course of this investigation in its reports to the USTR. In the public version of these reports, however, the Commission will not publish confidential business information in a manner that would reveal the individual operations of the firm supplying the information. All submissions should be addressed to the Secretary, U.S. International Trade Commission, 500 E Street SW, Washington, DC 20436.

List of Subjects

Tariffs, imports, wool, fabric, and suits.

By order of the Commission.
Issued: February 13, 2001.
Donna R. Koehnke,
Secretary.

[FR Doc. 01-4433 Filed 2-22-01; 8:45 am]

BILLING CODE 7020-02-P